DEPARTMENT OF THE INTERIOR

National Park Service

Notice of Inventory Completion: U.S. Department of the Interior, National Park Service, Effigy Mounds National Monument, Harpers Ferry, IA

AGENCY: National Park Service, Interior.

ACTION: Notice.

Notice is here given in accordance with the Native American Graves Protection and Repatriation Act (NAGPRA), 25 U.S.C. 3003, of the completion of an inventory of human remains and associated funerary object in the possession of the U.S. Department of the Interior, National Park Service, Effigy Mounds National Monument, Harpers Ferry, IA. The human remains and associated funerary objects were removed from Allamakee and Clayton Counties, IA.

This notice is published as part of the National Park Service's administrative responsibilities under NAGPRA, 25 U.S.C. 3003 (d)(3). The determinations in this notice are the sole responsibility of the superintendent, Effigy Mounds National Monument.

A detailed assessment of the human remains and associated funerary object was made by Effigy Mounds National Monument professional staff and Iowa Office of the State Archeologist professional staff in consultation with representatives of the Ho-Chunk Nation of Wisconsin; Iowa Tribe of Kansas and Nebraska; Iowa Tribe of Oklahoma; Lower Sioux Indian Community in the State of Minnesota; Otoe-Missouria Tribe of Indians, Oklahoma; Prairie Island Indian Community in the State of Minnesota; Sac & Fox Nation of Missouri in Kansas and Nebraska; Sac & Fox Nation, Oklahoma; Sac & Fox Tribe of the Mississippi in Iowa; Shakopee Mdewakanton Sioux Community of Minnesota; Upper Sioux Community, Minnesota; and Winnebago Tribe of Nebraska.

In the early 1970s, human remains representing a minimum of six individuals were removed from HWY 76 Rockshelter in Clayton County, IA, by National Park Service archeologist Wilfred Logan. No known individuals were identified. No associated funerary objects are present.

The HWY 76 Rockshelter site was described by Logan as a Late Woodland Period site representing a partial village complex of people who used effigy mounds for burial purposes.

In 1951 and 1952, human remains representing a minimum of one individual were removed from Spike Hollow Rockshelter in Allamakee County, IA, by National Park Service archeologist Wilfred Logan. No known individual was identified. No associated funerary objects are present.

Spike Hollow Rockshelter is a multicomponent site that contained both Oneota and Woodland artifacts.

In 1960, human remains representing a minimum of one individual were removed from Marquette-Yellow River Mound Group No. 9 in Clayton County, IA, during restoration work on Mound 66 by monument personnel. No known individual was identified. The one associated funerary object is a finely worked biface with one notch.

The site consists of a bear effigy mound, a bird effigy mound, and a compound mound of seven conjoined conicals and is presumed to be of the Woodland Period based on other cultural material from the site.

On the basis of archeological context, material culture, and geographic location, the mounds at Effigy Mounds National Monument have been identified as belonging to the Late Woodland Period culture (1700-750 B.P.). The Oneota culture (800-300 B.P.), which replaced the Effigy Mounds culture, occupied the area surrounding Effigy Mounds National Monument and is identified as being clearly ancestral to the Ho-Chunk Nation of Wisconsin; Iowa Tribe of Kansas and Nebraska; Iowa Tribe of Oklahoma; Otoe-Missouria Tribe of Indians, Oklahoma; and Winnebago Tribe of Nebraska. Linguistic, oral tradition, temporal and geographic evidence reasonably indicates that the following Sioux Indian tribes possess ancestral ties to the Effigy Mounds National Monument region and the human remains and associated funerary object described above: Lower Sioux Indian Community in the State of Minnesota; Prairie Island Indian Community in the State of Minnesota; Shakopee Mdewakanton Sioux Community of Minnesota; and Upper Sioux Community, Minnesota.

The Treaty of September 21, 1832 (Stat. L. VII, 374) between the Sauk and Fox and the United States, a cession required of the Sauk and Fox as indemnity for the expenses of the Black Hawk War, demonstrates that the Sac & Fox Nation of Missouri in Kansas and Nebraska; Sac & Fox Nation of Oklahoma; and Sac & Fox Tribe of the Mississippi in Iowa are the aboriginal occupants of the lands encompassing the present-day Effigy Mounds National Monument. Based upon an examination of the historical and geographical information, officials of Effigy Mounds National Monument determined that the Sac & Fox Nation of Missouri in Kansas and Nebraska; Sac & Fox Nation of Oklahoma; and Sac & Fox Tribe of the Mississippi in Iowa share a historic and continuing affiliation with Effigy Mounds National Monument lands, but do not possess a cultural affiliation with the human remains and associated funerary object described above.

Officials of Effigy Mounds National Monument have determined that, pursuant to 25 U.S.C. 3001 (9-10), the human remains described above represent the physical remains of eight individuals of Native American ancestry. Officials of Effigy Mounds National Monument also have determined that, pursuant to 25 U.S.C. 3001 (3)(A), the one object described above is reasonably believed to have been placed with or near individual human remains at the time of death or later as part of the death rite or ceremony. Lastly, officials of Effigy Mounds National Monument have determined that, pursuant to 25 U.S.C. 3001 (2), there is a relationship of shared group identity that can be reasonably traced between the Native American human remains and associated funerary object and the Ho-Chunk Nation of Wisconsin; Iowa Tribe of Kansas and Nebraska; Iowa Tribe of Oklahoma; Lower Sioux Indian Community in the State of Minnesota; Otoe-Missouria Tribe of Oklahoma; Prairie Island Indian Community in the State of Minnesota; Shakopee Mdewakanton Sioux Community of Minnesota; Upper Sioux Community, Minnesota; and Winnebago Tribe of Nebraska.

Representatives of any other Indian tribe that believes itself to be culturally affiliated with the human remains and associated funerary object should contact Phyllis Ewing, superintendent, Effigy Mounds National Monument, 151 HWY 76, Harpers Ferry, IA 52146, telephone (563) 873-3491, before August 13, 2008. Repatriation of the human remains and associated funerary object to the Ho-Chunk Nation of Wisconsin; Iowa Tribe of Kansas and Nebraska; Iowa Tribe of Oklahoma; Lower Sioux Indian Community in the State of Minnesota; Otoe-Missouria Tribe of Oklahoma; Prairie Island Indian Community in the State of Minnesota; Shakopee Mdewakanton Sioux Community of Minnesota; Upper Sioux Community, Minnesota; and Winnebago Tribe of Nebraska may proceed after that date if no additional claimants come forward.

Effigy Mounds National Monument is responsible for notifying the Ho-Chunk Nation of Wisconsin; Iowa Tribe of Kansas and Nebraska; Iowa Tribe of Oklahoma; Lower Sioux Indian Community in the State of Minnesota; Otoe-Missouria Tribe of Indians, Oklahoma; Prairie Island Indian Community in the State of Minnesota; Sac & Fox Nation of Missouri in Kansas and Nebraska; Sac & Fox Nation, Oklahoma; Sac & Fox Tribe of the Mississippi in Iowa; Shakopee Mdewakanton Sioux Community of Minnesota; Upper Sioux Community, Minnesota; and Winnebago Tribe of Nebraska that this notice has been published.

Dated: May 30, 2008
Sherry Hutt,
Manager, National NAGPRA Program.

[FR Doc. E8-15906 Filed 7-11-08; 8:45 am]

BILLING CODE 4312-50-S